DEPARTMENT OF THE INTERIOR

Bureau of Land Management

[LLNV9120000.L07772200.XX0000 .22X.241A MO:4500162448]

Call for Nominations for the Sierra Front-Northern Great Basin and Mojave-Southern Great Basin Resource Advisory Councils

AGENCY: Bureau of Land Management, Interior.

ACTION: Notice of call for nominations.

SUMMARY: The purpose of this notice is to request public nominations for the Bureau of Land Management's (BLM) Sierra Front-Northern Great Basin and Mojave-Southern Great Basin Resource Advisory Councils (RAC) to fill existing vacancies, as well as member terms that are scheduled to expire. The Councils provide advice and recommendations to the BLM on land use planning and management of the National System of Public Lands within their geographic areas.

DATES: All nominations must be received no later than July 11, 2022.

ADDRESSES: Nominations and completed applications should be sent to the BLM Nevada District Offices listed in the SUPPLEMENTARY INFORMATION section of this notice.

FOR FURTHER INFORMATION CONTACT: Rita Henderson, Public Affairs Specialist, BLM Nevada State Office, 1340 Financial Blvd., Reno, NV 89502; phone: (775) 461-6753; email: ritahenderson@blm.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Federal Land Policy and Management Act (FLPMA) directs the Secretary of the Interior to involve the public in planning and issues related to management of lands administered by the BLM. Section 309 of FLPMA (43 U.S.C. 1739) directs the Secretary to establish 10- to 15-member citizen-based advisory councils that are consistent with the Federal Advisory Committee Act (FACA). As required by FACA, RAC membership must be balanced and representative of the various interests concerned with the management of the public lands. The rules governing RACs are found at 43 CFR 1784 and include the following three membership categories:

Category One—Holders of Federal grazing permits or leases within the area for which the RAC is organized; represent interests associated with transportation or rights-of-way; represent developed outdoor recreation, off-highway vehicle users, or commercial recreation activities; represent the commercial timber industry; or represent energy and mineral development.

Category Two—Representatives of nationally or regionally recognized environmental organizations; dispersed recreational activities; archaeological and historical interests; or nationally or regionally recognized wild horse and burro interest groups.

Category Three—Hold state, county, or local elected office; are employed by a state agency responsible for the management of natural resources, land, or water; represent Indian tribes within or adjacent to the area for which the RAC is organized; are employed as academicians in natural resource management or the natural sciences; or represent the affected public-at-large.

Individuals may nominate themselves or others. Nominees must be residents of the State of Nevada. The BLM will evaluate nominees based on their education, training, experience, and knowledge of the geographic area of the RAC. Nominees should demonstrate a commitment to collaborative resource decision-making.

The following must accompany all nominations:

—A completed RAC application, which can either be obtained through your local BLM office or online at: https://www.blm.gov/sites/blm.gov/files/1120-019_0.pdf.

—Letters of reference from represented interests or organizations; and

—Any other information that addresses the nominee's qualifications.

Simultaneous with this notice, BLM Nevada will issue a press release providing additional information for submitting nominations.

Nominations and completed applications should be sent to the office listed below:

Sierra Front-Northern Great Basin RAC

Lisa Ross, Public Affairs Specialist, BLM Carson City District Office, 5665 Morgan Mill Road, Carson City, NV 89701; phone: (775) 885-6107; email: lross@blm.gov.

Mojave-Southern Great Basin RAC

Kirsten Cannon, Public Affairs Specialist, BLM Southern Nevada District Office, 4701 North Torrey Pines, Las Vegas, NV 89130; phone: (702) 515-5057; email: k1cannon@blm.gov.

(Authority: 43 CFR 1784.4-1)

Christopher Bush,
BLM Nevada Chief of Communications.

[FR Doc. 2022-12420 Filed 6-8-22; 8:45 am]

BILLING CODE 4310-HC-P